DEPARTMENT OF HOMELAND SECURITY

Federal Emergency Management Agency

[Docket ID: FEMA-2014-0019; OMB No. 1660-0103]

Agency Information Collection Activities: Proposed Collection; Comment Request; Property Acquisition and Relocation for Open Space

AGENCY: Federal Emergency Management Agency, DHS.

ACTION: Notice.

SUMMARY: The Federal Emergency Management Agency, as part of its continuing effort to reduce paperwork and respondent burden, invites the general public and other Federal agencies to take this opportunity to comment on a revision of a currently approved information collection. In accordance with the Paperwork Reduction Act of 1995, this notice seeks comments concerning the Property Acquisition and Relocation for Open Space process as part of the administration of FEMA's mitigation grant programs.

DATES: Comments must be submitted on or before August 4, 2014.

ADDRESSES: To avoid duplicate submissions to the docket, please use only one of the following means to submit comments:

(1) Online. Submit comments at www.regulations.gov under Docket ID FEMA-2014-3-0019. Follow the instructions for submitting comments.

(2) Mail. Submit written comments to Regulatory Affairs Division, Office of Chief Counsel, DHS/FEMA, 500 C Street SW., Room 8NE, Washington, DC 20472-3100.

(3) Facsimile. Submit comments to (703) 483-2999.

All submissions received must include the agency name and Docket ID. Regardless of the method used for submitting comments or material, all submissions will be posted, without change, to the Federal eRulemaking Portal at http://www.regulations.gov, and will include any personal information you provide. Therefore, submitting this information makes it public. You may wish to read the Privacy Act notice that is available via the link in the footer of www.regulations.gov.

FOR FURTHER INFORMATION CONTACT: Cecelia Rosenberg, Grants Policy Branch Chief, FEMA, FIMA—Risk Reduction Division, (202) 646-3321 for additional information. You may contact the Records Management Division for copies of the proposed collection of information at facsimile number (202) 646-3347 or email address: FEMA-Information-Collections-Management@dhs.gov.

SUPPLEMENTARY INFORMATION: Regulations implementing Property Acquisition and Relocation for Open Space are codified at 44 CFR part 80. These regulations govern property acquisitions for the creation of open space under all of FEMA's hazard mitigation assistance (HMA) grant programs: The Pre-Disaster Mitigation program (PDM) and Hazard Mitigation Grant Program (HMGP), which are authorized under the Robert T. Stafford Disaster Relief and Emergency Assistance Act, as amended, 42 U.S.C. 5121-5207; and the Flood Mitigation Assistance Program (FMA) authorized under the National Flood Insurance Act of 1968, as amended, 42 U.S.C. 4001 et seq. Acquisition and relocation of property for open space use is one of the most common mitigation activities and is an eligible activity type authorized for Federal grant funds under PDM, HMGP, and FMA. FEMA HMA programs require all properties acquired with FEMA funds to be deed restricted and maintained as open space in perpetuity. This ensures that no future risks from hazards occur to life or structures on that property, and no future disaster assistance or insurance payments are made as a result of damages to that property. This extension of a currently approved collection of information is necessary to establish uniform requirements for State and local implementation of acquisition activities, and to enforce open space maintenance and monitoring requirements for properties acquired with FEMA mitigation grant funds.

Collection of Information

Title: Property Acquisition and Relocation for Open Space.

Type of Information Collection: Revision of a currently approved information collection.

OMB Number: 1660-0103.

FEMA Forms: FEMA Form 086-0-31, Statement of Voluntary Participation for Acquisition of Property for Purpose of Open Space.

Abstract: FEMA and State and local recipients of FEMA mitigation grant programs will use the information collected to meet the Property Acquisition requirements to implement acquisition activities under the terms of grant agreements for acquisition and relocation activities. FEMA and State/local grant recipients will also use the information to monitor and enforce the open space requirements for all properties acquired with FEMA mitigation grants.

Affected Public: State, local or Tribal Government; Individuals or Households.

Number of Respondents: 2,296.

Number of Responses: 4,499.

Estimated Total Annual Burden Hours: 11,225 hours.

Estimated Annualized Burden Hours and Costs
Type of respondent | Form name/form No. | No. of respondents | No. of responses per respondent | Total No. of responses | Avg. burden per response (in hours) | Total annual burden (in hours) | Avg. hourly wage rate | Total annual respondent cost
Individuals or Households | Property Owners Voluntary Participation Statements/FEMA Form 086-0-31 | 2,240 | 1 | 2240 | 1 hour | 2240 | $27.38 | $61,331.20
State, Local, and Tribal Government | States Review and Submit Deed Restrictions/No Form | 56 | 40 | 2240 | 4 hours | 8960 | $67.73 | $606,860.80
State, Local, and Tribal Government | State Officials Reporting Requirements/No Form | 56 | 0.333 | 19 | 1.3 (1 hour and 18 minutes) | 25 | $67.73 | $1,693.25
State, Local, and Tribal Government | Transfer Certification/No Form |  |  |  |  |  |  |
State, Local, and Tribal Government | Enforcement Notices/No Form |  |  |  |  |  |  |
Total |  | 2,296 |  | 4,499 |  | 11,225 |  | $669,885.25
• Note: The “Avg. Hourly Wage Rate” for each respondent includes a 1.4 multiplier to reflect a fully-loaded wage rate.

Estimated Cost: The estimated annual cost to respondents for the hour burden is $669,885.25. There are no annual costs to respondents operations and maintenance costs for technical services. There is no annual start-up or capital costs. The cost to the Federal Government is $870,374.00.

Comments

Comments may be submitted as indicated in the ADDRESSES caption above. Comments are solicited to (a) evaluate whether the proposed data collection is necessary for the proper performance of the agency, including whether the information shall have practical utility; (b) evaluate the accuracy of the agency's estimate of the burden of the proposed collection of information, including the validity of the methodology and assumptions used; (c) enhance the quality, utility, and clarity of the information to be collected; and (d) minimize the burden of the collection of information on those who are to respond, including through the use of appropriate automated, electronic, mechanical, or other technological collection techniques or other forms of information technology, e.g., permitting electronic submission of responses.

Dated: May 22, 2014.
Charlene D. Myrthil,
Director, Records Management Division, Mission Support Bureau, Federal Emergency Management Agency, Department of Homeland Security.

[FR Doc. 2014-13093 Filed 6-4-14; 8:45 am]

BILLING CODE 9110-13-P